DEPARTMENT OF DEFENSE

Department of the Army

Record of Decision for the Schofield Generating Station Project Final Environmental Impact Statement, United States Army Garrison—Hawaii

AGENCY: Department of the Army, DoD.

ACTION: Notice of availability.

SUMMARY: The Department of the Army announces the availability of the Record of Decision (ROD) to lease land and grant easements on Schofield Barracks and Wheeler Army Airfield to Hawaiian Electric Company (Hawaiian Electric) for the construction, ownership, operation, and maintenance of a 50-megawatt (MW) capacity, biofuel-capable generating station, referred to as the Schofield Generating Station, and associated power poles, high-tension power lines, and related equipment and facilities. The action was the preferred alternative identified in the final Environmental Impact Statement (EIS) for proposed Schofield Generating Station Project (SGSP). The ROD identifies the potential environmental and socioeconomic impacts associated with the SGSP, none of which were determined to be significant adverse effects.

The selected action will provide improved energy security to the Army and citizens of Oahu, support renewable energy goals, and improve future electrical generation capabilities on Oahu by providing a new secure, firm, dispatchable, flexible, and renewable energy generation to the grid on Oahu, Hawaii. Implementation of the preferred alternative will not result in significant impacts. The Army and Hawaiian Electric will implement numerous best management practices to avoid or minimize adverse environmental effects.

ADDRESSES: The ROD can be downloaded at http://www.garrison.hawaii.army.mil/schofieldplant. Written requests to obtain a copy of the ROD may be sent to Department of the Army, Directorate of Public Works, U.S. Army Garrison—Hawaii, ATTN: IMHW-PWE (L. Graham), 947 Wright Avenue, Wheeler Army Airfield, Schofield Barracks, HI 96857-5013 or email them to usaghi.comrel@gmail.com.

FOR FURTHER INFORMATION CONTACT: Please contact Ms. Lisa Graham, NEPA Coordinator, U.S. Army Garrison—Hawaii. Ms. Graham can be reached by phone at (808) 656-3075, or by email at usaghi.comrel@gmail.com.

SUPPLEMENTARY INFORMATION: The EIS examined the potential environmental and socioeconomic impacts from implementing the proposed action, which is for the Army to lease of 8.13 acres of land and grant a 2.5-acre interconnection easement to Hawaiian Electric Company (Hawaiian Electric) on Schofield Barracks and Wheeler Army Airfield for the construction, ownership, operation, and maintenance of a 50-megawatt (MW) capacity, biofuel-capable generating station, referred to as the Schofield Generating Station, and associated power poles, high-tension power lines, and related equipment and facilities (together, the Schofield Generating Station Project [SGSP]).

The selected action best meets the Army's needs to provide improved energy security to the U.S. Army Garrison—Hawaii at Schofield Barracks, Wheeler Army Airfield, and Field Station Kunia and to provide new secure, firm, flexible, and renewable energy generation to the grid on Oahu, Hawaii. The selected action will also assist the Army in supporting renewable energy-related laws and Executive Orders and meeting its renewable energy goals; assist Hawaiian Electric in meeting the Hawaii Renewable Portfolio Standard goals; and improve future electrical generation on Oahu.

The electricity produced by the SGSP will ordinarily supply power to all Hawaiian Electric customers through the island-wide electrical grid. During outages that meet the criteria specified in the Operating Agreement between the Army and Hawaiian Electric, SGSP output would first be provided to Army facilities at Schofield Barracks, Wheeler Army Airfield, and Field Station Kunia up to their peak demand of 32 MW, to meet their missions, and would additionally support the grid up to the station's full capacity. If there were a full island outage, the generating station could be used to restart other generating stations on the island.

The ROD incorporates analysis contained in the final EIS for the proposed SGSP, which considered all comments provided during formal comment and review periods. The ROD also considered all comments provided during the 30-day waiting period that was initiated when the Notice of Availability for the final EIS was published in the Federal Register (80 FR 68863) on November 6, 2015.

The Army took this material into account in making its decision, but determined that it did not constitute significant new information relevant to environmental concerns that would require supplementation of the final EIS. Comments received and the Army evaluation of those comments are summarized in the ROD.

The final EIS evaluated the impacts on land use; airspace use; visual resources; air quality, including climate and greenhouse gasses; noise; traffic and transportation; water resources; geology and soils; biological resources; cultural resources; hazardous and toxic substances; socioeconomics, including environmental justice; and utilities and infrastructure.

Implementation of this decision is expected to result in less than significant adverse impacts for all resources. Best management practices and design measures that would avoid or minimize adverse effects will be implemented for these resources: visual, air quality, noise, traffic and transportation, water, geology and soils, biological resources, cultural resources, and hazardous and toxic substances.

Brenda S. Bowen,
Army Federal Register Liaison Officer.

[FR Doc. 2016-02041 Filed 2-4-16; 8:45 am]

BILLING CODE 5001-03-P